DEPARTMENT OF THE INTERIOR

Bureau of Indian Affairs

Land Acquisitions; Cherokee Nation of Oklahoma

AGENCY: Bureau of Indian Affairs, Interior.

ACTION: Notice of Final Agency Determination.

SUMMARY: The Assistant Secretary—Indian Affairs made a final agency determination to acquire approximately 16.61 acres of land into trust for the Cherokee Nation of Oklahoma on November 10, 2010.

FOR FURTHER INFORMATION CONTACT: Paula L. Hart, Director, Office of Indian Gaming, Bureau of Indian Affairs, MS-3657 MIB, 1849 C Street, NW., Washington, DC 20240; Telephone (202) 219-4066.

SUPPLEMENTARY INFORMATION: This notice is published in the exercise of authority delegated by the Secretary of the Interior to the Assistant Secretary—Indian Affairs by 209 Departmental Manual 8.1 and is published to comply with the requirements of 25 CFR Part 151.12(b) that notice be given to the public of the Secretary's decision to acquire land in trust at least 30 days prior to signatory acceptance of the land into trust. The purpose of the 30-day waiting period in 25 CFR 151.12(b) is to afford interested parties the opportunity to seek judicial review of final administrative decisions to take land in trust for Indian Tribes and individual Indians before transfer of title to the property occurs. On November 10, 2010, the Assistant Secretary—Indian Affairs decided to accept approximately 16.61 acres of land into trust for the Cherokee Nation of Oklahoma under the authority of the Indian Reorganization Act of 1934, 25 U.S.C. 465. The 16.61 acres are located within the former reservation boundaries of the Cherokee Nation in Cherokee County, Oklahoma. The parcel will be used for a gaming establishment. The 16.61 acre parcel located in Cherokee County, Oklahoma is described as follows:

A tract of land lying in and being a part of the SE¼ SW¼ of Section 16, Township 16 North, Range 22 East, I.B.&M., Cherokee County, Oklahoma, more particularly described as follows, to-wit:

BEGINNING at the SE corner of said SE¼ SW¼; thence North 89°54′ West along the South Boundary of said SE¼ SW¼, 420.68 feet to a point on the Easterly Boundary of Oklahoma State Highway No. 82; thence North 36°26′02″ West along the Easterly Boundary of Oklahoma State Highway No. 82, 300.1 feet; thence in a Northerly direction, on a curve to the right, having a radius of 651.2 feet; an arc distance of 570.56; thence North 36°16′57″ East, 283.22 feet; thence North 53°43′03″ West, 55.0 feet to a point on the Easterly boundary of U.S. Highway No. 62; thence Northeasterly, along the Easterly boundary of U.S. Highway No. 62, on a curve to the left; having a radius of 3645.99 feet; an arc distance of 27.29 feet; thence South 42°55′ East, 183.0 feet; thence North 34°10′ East, 135.0 feet; thence North 32°03′ East, 325.3 feet; thence South 89°53′ East, 197.6 feet to the NE corner of said SE¼ SW¼; thence South 0°07′ West, 1319.75 feet to the POINT OF BEGINNING; LESS AND EXCEPT:

A strip, piece or parcel of land lying in part of the SE¼4 SW¼4 of Section 16, Township 16 North, Range 22 East. Said parcel of land being described by meters and bounds as follows: BEGINNING at a point on the South line of said SE¼ SW¼; a distance of 399.49 feet (121.764 meters) West of the SE corner of said SE¼ SW¼; thence West along said South line a distance of 21.19 feet (6.457 meters) to a point on the present East rights of way line of State Highway No. 82. thence Northwesterly along said right of way line a distance of 449.32 feet (136.953 meters), thence South 38°18′29″ East a distance of 460.63 feet (140.400 meters) to a POINT OF BEGINNING, containing 0.15 acres (0.061 hectares), more or less, of new right of way, the remaining area included in the above description being right of way occupied by the present highway. All bearings contained in this description are based on the Oklahoma State Plane Coordinate System and are not astronomical bearings.

Dated: November 10, 2010.
Donald Laverdure,
Deputy Assistant Secretary.

[FR Doc. 2010-30867 Filed 12-7-10; 8:45 am]

BILLING CODE 4310-4N-P